FEDERAL COMMUNICATIONS COMMISSION

47 CFR Part 25

[IB Docket Nos. 02-34, 00-248, and 96-111; FCC 03-128]

Satellite Licensing Procedure

AGENCY: Federal Communications Commission.

ACTION: Final rule, announcement of effective date.

SUMMARY: The Commission adopted rule revisions to create a streamlined procedure for certain space station modification requests related to fleet management. Certain rules contained new and modified information requirements and were published in the Federal Register on November 3, 2003. This document announces the effective date of these published rules. 47 CFR 25.117, 25.118, 25.131, 25.137.

DATES: The amendments to §§ 25.117, 25.118, 25.131, and 25.137, published at 68 FR 62247, November 3, 2003, became effective January 8, 2004.

FOR FURTHER INFORMATION CONTACT: Steven Spaeth, International Bureau, Satellite Policy Branch, (202) 418-1539.

SUPPLEMENTARY INFORMATION: On January 8, 2004, the Office of Management and Budget (OMB) approved the information collection requirement contained in Sections 25.117, 25.118, 25.131, and 25.137, pursuant to OMB Control No. 3060-1007.

Accordingly, the information collection requirement contained in these rules became effective on January 8, 2004.

Federal Communications Commission.
Marlene H. Dortch,
Secretary.

[FR Doc. 04-1416 Filed 1-22-04; 8:45 am]

BILLING CODE 6712-01-P